DEPARTMENT OF TRANSPORTATION

Federal Aviation Administration

14 CFR Part 39

[Docket No. FAA-2007-0390; Directorate Identifier 2007-NM-260-AD; Amendment 39-16028; AD 2009-20-05]

RIN 2120-AA64

Airworthiness Directives; Airbus Model A318, A319, A320, and A321 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Several cases of cracks on the main landing gear (MLG) door hinge fitting and MLG door actuator fitting on the keel beam were reported.

Such failure could lead to the loss [of] the MLG door and could cause damage to the aircraft and/or hazard to persons or property on the ground.

* * * * *

We are issuing this AD to require actions to correct the unsafe condition on these products.

DATES: This AD becomes effective November 3, 2009.

The Director of the Federal Register approved the incorporation by reference of certain publications listed in this AD as of November 3, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on January 9, 2008 (73 FR 1556). That NPRM proposed to correct an unsafe condition for the specified products. The MCAI states:

Several cases of cracks on the main landing gear (MLG) door hinge fitting and MLG door actuator fitting on the keel beam were reported.

Such failure could lead to the loss [of] the MLG door and could cause damage to the aircraft and/or hazard to persons or property on the ground.

This Airworthiness Directive (AD) mandates a onetime detailed visual inspection (DVI) and special detailed inspection (SDI) of the MLG door hinge fitting and actuator fitting.

The inspections are for cracking, damage, correct installation, and correct adjustment. The corrective actions include correcting incorrect adjustments and installations, and contacting Airbus for instructions to repair damage and cracking. You may obtain further information by examining the MCAI in the AD docket.

Comments

We gave the public the opportunity to participate in developing this AD. We considered the comments received.

Request for Partial Credit for Inspections

Air Transport Association (ATA) on behalf of its member Northwest Airlines (NWA) requests that the AD give partial credit for inspections previously accomplished in accordance with Airworthiness Limitation Item (ALI) Task 533154-02-1. NWA specifies that after the ALI task is accomplished, full compliance would then require that certain aircraft maintenance manual (AMM) actions also be performed within the time limits specified in the NPRM. The AMM actions include confirmation that the door actuator and door hinge are correctly installed and adjusted, and that “A” and “H” dimensions are correct as specified in the service information referred to in the NPRM.

We disagree with the request to change the AD to give partial credit for accomplishing the ALI task. If the actions specified in the ALI task are exactly the same as certain inspection requirements of the AD, then the operator would be in compliance with the corresponding requirements of the AD, as specified in paragraph (f) of the NPRM, which says, “Unless already done, do the following actions.” In order to receive credit for accomplishing the actions, an operator would need to provide verification, in accordance with the maintenance recording requirements specified in Section 121.380 of the Federal Aviation Regulations (14 CFR 121.380). However, if the actions specified in the ALI task are not exactly the same then, under the provisions of paragraph (g)(1) of the final rule, we will consider requests for approval of an alternative method of compliance (AMOC) if sufficient data are submitted to substantiate that the alternative method would provide an acceptable level of safety. We have not changed the AD in this regard.

Request To Clarify Root Cause of Cracking

ATA and NWA state that improper rigging might not be the root cause of the cracking identified in the NPRM. NWA states that Airbus identified proper rigging of the main landing gear (MLG) door in accordance with the recently revised AMM as corrective action for preventing cracking. NWA states that it has been rigging the MLG door on its Airbus Model A319 and A320 series airplanes for many years before the AMM was revised and has had no known cracking at this location. Therefore, NWA questions whether or not the root cause of the cracking is due to improper rigging.

We acknowledge that NWA has had no known cracking at this location, but note that, according to Airbus, several cases of cracked structures due to improper rigging have been found elsewhere in the fleet. Improper rigging of the MLG door has been identified as one possible cause of the cracking and, therefore, re-rigging will help prevent future occurrences of cracking. We have not changed the AD in this regard.

Request To Remove Reporting Requirement

ATA and NWA state that the reporting requirements should be changed so that only positive crack inspection results are provided to Airbus. NWA notes that Airbus Mandatory Service Bulletin A320-53-1195, Revision 02, dated April 5, 2007; and Airbus Mandatory Service Bulletin A320-53-1196, Revision 01, dated November 29, 2006; currently require reporting of all inspection results to Airbus, whether there are findings or not. NWA believes it is an unnecessary burden to report negative findings.

We disagree with removing the requirement to report negative findings. Reporting of both positive and negative findings is necessary to determine the scope of the problem and decide future actions. Reporting all findings will allow the manufacturer to conduct statistical analyses on a continuous basis rather than waiting for the compliance time to expire, which may be several years for certain airplanes. Access to all findings will help the manufacturer to develop final action to address the identified unsafe condition in an expeditious manner. However, we agree that some relief is appropriate regarding negative findings. We have added a new paragraph (f)(4) to this AD to specify that operators have 30 days to report negative findings. We have also revised paragraphs (f)(1) and (f)(2) of this AD to refer to paragraph (f)(4) of this AD. We have also revised applicable paragraphs of this AD to refer to Appendix 01 of Airbus Mandatory Service Bulletin A320-53-1195, Revision 02, dated April 5, 2007; and Airbus Mandatory Service Bulletin A320-53-1196, Revision 01, dated November 29, 2006. Appendix 01 contains instructions for reporting findings.

Additional Clarifications to This AD

We have revised paragraphs (f)(1) and (f)(2) of this AD to clarify the references regarding the service information necessary to do the required action.

Conclusion

We reviewed the available data, including the comments received, and determined that air safety and the public interest require adopting the AD changes described previously. We also determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 641 products of U.S. registry. We also estimate that it will take 28 work-hours per product to comply with the basic requirements of this AD. The average labor rate is $80 per work-hour. Based on these figures, we estimate the cost of this AD to the U.S. operators to be $1,435,840, or $2,240 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-20-05 Airbus: Amendment 39-16028. Docket No. FAA-2007-0390; Directorate Identifier 2007-NM-260-AD.

Effective Date

(a) This airworthiness directive (AD) becomes effective November 3, 2009.

Affected ADs

(b) None.

Applicability

(c) This AD applies to Airbus Model A318, A319, A320, and A321 series airplanes, all certified models, certificated in any category, all serial numbers up to manufacturer's serial number (MSN) 2850 inclusive, except MSNs 0115, 0184, 0782, 1151, 1190, 2650, 2675, 2706, 2801, and 2837.

Subject

(d) Air Transport Association (ATA) of America Code 53: Fuselage.

Reason

(e) The mandatory continuing airworthiness information (MCAI) states:

Several cases of cracks on the main landing gear (MLG) door hinge fitting and MLG door actuator fitting on the keel beam were reported.

Such failure could lead to the loss [of] the MLG door and could cause damage to the aircraft and/or hazard to persons or property on the ground.

This Airworthiness Directive (AD) mandates a onetime detailed visual inspection (DVI) and special detailed inspection (SDI) of the MLG door hinge fitting and actuator fitting.

The inspections are for cracking, damage, correct installation, and correct adjustment. The corrective actions include correcting incorrect adjustments and installations, and contacting Airbus for instructions to repair damage and cracking.

Actions and Compliance

(f) Unless already done, do the following actions.

(1) At the latest of the times specified in paragraphs (f)(1)(i), (f)(1)(ii), and (f)(1)(iii) of this AD, perform detailed visual, high frequency eddy current (HFEC), and ultrasonic inspections (for cracking, damage, correct installation, and correct adjustment, as applicable) of the left hand (LH) and right hand (RH) MLG door actuator fitting on the keel beam, and do all applicable corrective actions before further flight, except as provided by paragraph (f)(4) of this AD. Do all actions required by this paragraph in accordance with the Accomplishment Instructions of Airbus Mandatory Service Bulletin A320-53-1195, Revision 02, including Appendix 01, dated April 5, 2007, except where that service bulletin specifies the applicable corrective action is contacting Airbus, contact Airbus for repair instructions and repair before further flight.

(i) Within 6,000 flight cycles since first flight.

(ii) Within 1,500 flight cycles after the effective date of this AD.

(iii) Within 6,000 flight cycles from the latest MLG door actuator fitting replacement.

(2) At the later of the times specified in paragraphs (f)(2)(i) and (f)(2)(ii) of this AD, perform detailed visual and HFEC inspections (for cracking, damage, correct installation, and correct adjustment, as applicable) of the LH and RH MLG door hinge fitting on the keel beam, and do all applicable corrective actions before further flight, except as provided by paragraph (f)(4) of this AD. Do all actions required by this paragraph in accordance with the Accomplishment Instructions of Airbus Mandatory Service Bulletin A320-53-1196, Revision 01, including Appendix 01, dated November 29, 2006, except where that service bulletin specifies the applicable corrective action is contacting Airbus, contact Airbus for repair instructions and repair before further flight.

(i) Within 4,500 flight cycles since first flight.

(ii) Within 1,500 flight cycles after the effective date of this AD.

(3) Actions done before the effective date of this AD in accordance with the applicable service bulletins listed in paragraphs (f)(3)(i), (f)(3)(ii), and (f)(3)(iii) of this AD are acceptable for compliance with the corresponding actions required by this AD.

(i) Airbus Mandatory Service Bulletin A320-53-1195, dated June 23, 2006.

(ii) Airbus Mandatory Service Bulletin A320-53-1195, Revision 01, dated November 29, 2006.

(iii) Airbus Mandatory Service Bulletin A320-53-1196, dated June 23, 2006.

(4) Where the Accomplishment Instructions of Airbus Mandatory Service Bulletin A320-53-1195, Revision 02, including Appendix 01, dated April 5, 2007, or Airbus Mandatory Service Bulletin A320-53-1196, Revision 01, including Appendix 01, dated November 29, 2006, specify to submit a report where no damage or crack is found during of the inspection required by paragraph (f)(1) or (f)(2) of this AD: Send the report to Airbus using the applicable reporting sheet in Appendix 01 of Airbus Mandatory Service Bulletin A320-53-1195, Revision 02, dated April 5, 2007, or Airbus Mandatory Service Bulletin A320-53-1196, Revision 01, dated November 29, 2006. Send the report at the applicable time specified in paragraph (f)(4)(i) or (f)(4)(ii) of this AD.

(i) If the inspection was done on or after the effective date of this AD: Submit the report within 30 days after the inspection.

(ii) If the inspection was done before the effective date of this AD: Submit the report within 30 days after the effective date of this AD.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0161, dated June 11, 2007; Airbus Mandatory Service Bulletin A320-53-1195, Revision 02, including Appendix 01, dated April 5, 2007; and Airbus Mandatory Service Bulletin A320-53-1196, Revision 01, including Appendix 01, dated November 29, 2006; for related information.

Material Incorporated by Reference

(i) You must use Airbus Mandatory Service Bulletin A320-53-1195, Revision 02, including Appendix 01, dated April 5, 2007; and Airbus Mandatory Service Bulletin A320-53-1196, Revision 01, including Appendix 01, dated November 29, 2006; as applicable; to do the actions required by this AD, unless the AD specifies otherwise.

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on September 15, 2009.
Ali Bahrami,
Manager, Transport Airplane Directorate, Aircraft Certification Service.

[FR Doc. E9-23093 Filed 9-28-09; 8:45 am]

BILLING CODE 4910-13-P